DEPARTMENT OF TRANSPORTATION

National Highway Traffic Safety Administration

[Docket No. NHTSA-2000-7818; Notice 1]

Evenflo Company, Inc.; Receipt of Application for Decision of Inconsequential Noncompliance

Evenflo Company Inc. of Vandalia, Ohio, has determined that 999,515 child restraint systems fail to comply with S5.1(d) of Federal Motor Vehicle Safety Standard (FMVSS) No. 209, “Seat Belt Assemblies,” as referenced in S5.4.1(a) of FMVSS No. 213, “Child Restraint Systems,” and has filed an appropriate report pursuant to 49 CFR part 573, “Defect and Noncompliance Reports.” Evenflo has also applied to be exempted from the notification and remedy requirements of 49 U.S.C. Chapter 301—“Motor Vehicle Safety” on the basis that the noncompliance is inconsequential to motor vehicle safety.

This notice of receipt of an application is published under 49 U.S.C. 30118 and 30120 and does not represent any agency decision or other exercise of judgment concerning the merits of the application.

FMVSS No. 213, S5.4.1(a) “Performance Requirements,” requires that:

The webbing of belts provided with a child restraint system and used to attach the system to the vehicle or to restrain the child within the system shall: (a) After being subjected to abrasion as specified in S5.1(d) or S5.3(c) of FMVSS No. 209 (S571.209), have a breaking strength of not less than 75 percent of the strength of the unabraded webbing when tested in accordance with S5.1(b) of FMVSS No. 209.

Evenflo has determined that certain child restraints it manufactured may have tether straps which fail the webbing strength requirements of FMVSS No. 213, S5.4.1(a). The child restraints containing the noncompliance are Ultara (model numbers 234, 235, 236, 237, 238, and 239), Secure Comfort (model number 247), Champion (model number 249), Medallion (model numbers 251, 254 and 259), Horizon (model numbers 420, 421, 425, and 426), Conquest (model numbers 428, and 429) and Tether Kits (model number 628). These child restraints and tether kits were manufactured between January 1, 1998 and May 30, 2000. A total of 959,514 convertible child seats and 40,001 tether kits are in noncompliance with this requirement.

Evenflo supports its application for inconsequential noncompliance with the following:

In March 2000, Evenflo received a PE [Preliminary Evaluation] from NHTSA relating to a potential noncompliance of tether webbing after being subject to abrasion as specified in S5.1(d) of FMVSS No. 209 (referenced in S5.4.1(a) of FMVSS No. 213). According to NHTSA, based upon testing conducted by NHTSA at SGS U.S. Testing, the Elizabeth Mills black tether webbing (vendor style #7635 retained only 67.1 percent of its unabraded strength. Section S5.4.1(a) of FMVSS No. 213 requires webbing used to attach a child restraint to a vehicle to have a breaking strength after abrasion of not less than 75 percent of the unabraded webbing strength.

In April 2000, Evenflo reviewed testing results from ongoing testing at Elizabeth Webbing Mills that showed all 82 test results acceptable on tests conducted from January 28, 1998 to March 13, 2000. The control chart showed the process to be in statistical control.

Evenflo visited SGS U.S. Testing in Fairfield, New Jersey to review the testing process and obtain samples of the potential nonconforming tether webbing material tested. SGS U.S. Testing did not keep the test samples and had not finished its test report. Evenflo then tried to obtain samples from our finished good warehouse close to the date code tested by SGS U.S. testing. Exact matches of the date code could not be found. Samples of a close date code were then tested at the following independent test labs: Indiana Mills (IMMI), Magill, ACW, and Elizabeth Webbing Mills. The test results yielded a variety of results from 56 to 88 percent of unabraded strength. A follow up of the test results revealed differences in test set-ups and test equipment.

Concurrently, Evenflo conducted sled testing of abraded and unabraded tethers at Veridan to determine if [there] was a safety concern with the tethers in use in the field. All test results shared the same basic performance for abraded and unabraded tethers. The testing demonstrated at least a 90 percent margin on tensile strength after abrasion (mean tensile strength after abrasion is 3,101 pounds and the maximum tensile load in sled testing was 1,616 pounds). According to Evenflo, the sled test results clearly demonstrate that there were no potential safety issues associated with abraded or unabraded tethers on the child restraint systems, and that there is more than an adequate margin of safety to protect against failures during reasonably expected usage.

Elizabeth Webbing Mills discovered an error in the manufacture of its test equipment.

An angle specified for 85 degrees on the equipment was actually built to 90 degrees. Testing with the correct angle revealed a significant effect on the webbing Evenflo used but not on the webbing used by Evenflo's competitors.

To verify and understand this effect, Evenflo performed a multi-factor factorial design of experiment. The design of experiment confirmed the effect of Evenflo's webbing material relative to other tether material and the percent unabraded test, but also identified a test set-up within FMVSS 213 and FMVSS 209 that would yield potentially passing results. A question of what was the proper test weight, 1.5 or 2.33 Kg. to use in the testing process was identified.

Evenflo then requested an official interpretation from NHTSA as to the correct test weight to be used. A verification test was conducted to confirm the test set-up identified by the multi-factor factorial design of experiment. On June 19, 2000, the testing did not reveal an acceptable pass rate and as a result Evenflo has stopped manufacture and shipment of child restraint systems using this Elizabeth Webbing Mills style of webbing and is filing this section 573, non-compliance information report.”

Under 49 U.S.C. 30118(d), the Secretary may exempt manufacturers from the Act's notification requirements when the Secretary determines that the noncompliance is inconsequential to motor vehicle safety. Evenflo states that it believes that the noncompliance here should be found to be inconsequential because the products meet the intent of the FMVSS 209 and FMVSS 213 performance requirements. Evenflo also stated that as its testing has established, even in the severely abraded condition, that the Elizabeth Webbing Mills (EWM) webbing tethers pass dynamic sled testing with over a 90 percent strength safety margin. Finally, the EWM webbing tethers are stronger before severe abrasion than the tethers of other major U.S. child restraint manufacturers. Only when the EWM webbing tethers are severely abraded is their strength reduced to that of the competitors' tethers. This accounts for the EWM webbing tethers' noncompliance with the 75 percent strength retention requirement, but clearly has no effect on the safety of the EWM webbing tethers in real world use.

Interested persons are invited to submit written data, views, and arguments on the application of Evenflo described above. Comments should refer to the docket number and be submitted to: U.S. Department of Transportation Docket Management, Room PL-401, 400 Seventh Street, SW, Washington, DC 20590. It is requested, but not required, that two copies be submitted.

All comments received before the close of business on the closing date indicated below will be considered. The application and supporting materials, and all comments received after the closing date, will also be filed and will be considered to the extent possible. When the application is granted or denied, the notice will be published in the Federal Register pursuant to the authority indicated below. Comment closing date: September 28, 2000.

(49 U.S.C. 30118, 30120; delegations of authority at 49 CFR 1.50 and 501.8)

Issued on: August 24, 2000.
Noble N. Bowie,
Acting Associate Administrator for Safety Performance Standards.

[FR Doc. 00-22036 Filed 8-28-00; 8:45 am]

BILLING CODE 4910-59-P